FEDERAL HOUSING FINANCE BOARD

Sunshine Act Meeting Notice; Announcing a Partially Open Meeting of the Board of Directors

Time and Date: The open meeting of the Board of Directors is scheduled to begin at 10 a.m. on Wednesday, June 8, 2005. The closed portion of the meeting will follow immediately the open portion of the meeting.

Place: Board Room, Second Floor, Federal Housing Finance Board, 1777 F Street, NW., Washington, DC 20006.

Status: The first portion of the meeting will be open to the public. The final portion of the meeting will be closed to the public.

Matters To Be Considered at the Open Portion of the Meeting: Capital Plan Amendment for the Federal Home Loan Bank of New York. Consideration of several technical amendments to the New York Bank capital plan.

Capital Plan Amendment for the Federal Home Loan Bank of Seattle. Consideration of an amendment to the Seattle Bank capital plan to adjust the stock purchase requirement.

Matter To Be Considered at the Closed Portion of the Meeting: Periodic Update of Examination Program Development and Supervisory Findings.

for further information contact: Shelia Willis, Paralegal Specialist, Office of General Counsel, at 202-408-2876 or williss@fhfb.gov.

Dated: June 1, 2005.
By the Federal Housing Finance Board.
John P. Kennedy,
General Counsel.

[FR Doc. 05-11293 Filed 6-2-05; 2:21 pm]

BILLING CODE 6725-01-P